DEPARTMENT OF TRANSPORTATION

Office of the Secretary

[Docket No. DOT-OST-2018-0079]

Agency Information Collection: Activity for OMB Review: Agency Request for Reinstatement of a Previously Approved Information Collection: 2105-0009, Advisory Committee Candidate Biographical Information Request Form

AGENCY: Office of the Secretary (OST), DOT.

ACTION: Notice and request for comments.

SUMMARY: In compliance with the Paperwork Reduction Act of 1995, the U.S. Department of Transportation invites the general public, industry and other governmental parties to comment on the information collection request (ICR) OMB No. 2105-0009 Committee Candidate Biographical Information Request Form. The information collection request previously approved by the Office of Management and Budget (OMB) expired on May 31, 2012. The collection is needed to facilitate background investigations of individuals seeking or currently appointed to a Department committee.

DATES: Written comments should be submitted by August 10, 2018.

FOR FURTHER INFORMATION CONTACT: David Freeman, Program Analyst, Executive Secretariat, U.S. Department of Transportation, 1200 New Jersey Avenue SE, Washington, DC 20590-0001 or telephone: (202) 366-2918. Refer to OMB Control No. 2105-0009.

ADDRESSES: You may submit comments to DOT-OST-2008-0320 through one of the following methods: Website: https://www.regulations.gov. Follow the instructions for submitting comments on the DOT electronic docket site.

Mail: Docket Management Facility; U.S. Department of Transportation, 1200 New Jersey Avenue SE, West Building, Room W12-140, Washington, DC 20590-001.

Hand Delivery: Room W12-140 on the ground level of the West Building, 1200 New Jersey Avenue SE, Washington, DC, between 9 a.m. and 5 p.m., Monday through Friday, except Wednesday and Federal Holidays.

Instructions: All comments must include the agency name and DOT-OST-2008-0320. Note that all comments received will be posted without change to https://www.regulations.gov, including personal information provided. You should know that anyone is able to search the electronic form of all comments received into any of our dockets by the name of the individual submitting the comment (or signing the comment, if submitted on behalf of an association, business, labor union, etc.).

You may review the Department of Transportation's complete Privacy Act statement in the Federal Register published on April 11, 2000 (65 FR 19477-78), or you may visit https://www.regulations.gov.

Docket: For access to the docket to read background documents or comments, go to https://www.regulations.gov at any time or to Room W12-140 on the ground level of the West Building, 1200 New Jersey Avenue SE, Washington, DC, between 9 a.m. and 5 a.m., Monday through Friday, except Wednesday and Federal holidays.

If you wish to receive confirmation of receipt of your written comments, please include a self-addressed, stamped postcard with the following statement: “Comments on Docket DOT-OST-2008-0320.” The Docket Clerk will date stamp the postcard prior to returning it to you via the U.S. mail. Please note that due to delays in the delivery of U.S. mail to Federal offices in Washington, DC, we recommend that persons consider an alternative method (internet, fax, or professional delivery service) to submit comments to the docket and ensure their timely receipt at U.S. DOT.

SUPPLEMENTARY INFORMATION:

Title: Committee Candidate Biographical Information Request.

OMB Control No.: 2105-0009.

Type of Review: Reinstatement with change of previously approved information collection.

Form No.: DOT F1120.1.

Abstract: The requested reintroduction of the approved control number expands the information collection request (ICR) OMB No. 2105-0009, “Advisory Committee Candidate Biographical Information Request,” to include all DOT committee candidates and will be used to gather information from individuals interested in appointment to a committee and individuals who have been recommended for a membership on a committee to ensure fair and balanced membership. DOT is also revising the name of the collection to “Committee Candidate Biographical Information Request” consistent with the scope of the collection.

Respondents: Individuals who have contacted DOT to indicate interest in appointment to a committee and individuals who have been recommended for membership on a committee. Only one collection is expected per individual.

Number of Respondents: 100 annually.

Frequency: One time.

Estimated Time per Response: 15 minutes.

Total Annual Burden: 25 hours.

Comments are invited on: (a) Whether the proposed collection of information is necessary for the proper performance of the functions of the Department, including whether the information will be have practical utility; (b) the accuracy of the Department's estimate of burden of the proposed information collection; (c) ways to enhance the quality, utility, and clarity of the information collection; and (d) ways to minimize the collection of information on the respondents, including the use of automated collection techniques or other forms of information technology without reducing the quality of the information collected.

All comments will become a matter of public record.

Authority: The Paperwork Reduction Act of 1995; 44 U.S.C. Chapter 35, as amended; and 49 CFR 1:48.

Issued in Washington, DC.
David Freeman,
Program Analyst, DOT Executive Secretariat.

[FR Doc. 2018-12516 Filed 6-8-18; 8:45 am]

BILLING CODE 4910-9X-P